DEPARTMENT OF HOMELAND SECURITY

Coast Guard

33 CFR Part 117

[CGD01-06-122]

RIN 1625-AA09

Drawbridge Operation Regulations; Thames River, New London, CT

AGENCY: Coast Guard, DHS.

ACTION: Temporary final rule.

SUMMARY: The Coast Guard has temporarily changed the drawbridge operation regulations that govern the Amtrak Bridge across the Thames River, mile 0.8, at New London, Connecticut. This temporary final rule allows the bridge owner to open the bridge on a temporary opening schedule from November 15, 2006 through May 15, 2007. This temporary final rule is necessary to facilitate bridge pier repairs.

DATES: This rule is effective from November 15, 2006 through May 15, 2007.

ADDRESSES: Comments and material received from the public, as well as documents indicated in this preamble as being available in the docket, are part of docket (CGD01-06-122) and are available for inspection or copying at the First Coast Guard District, Bridge Branch Office, one South Street, New York, New York, between 7 a.m. and 3 p.m., Monday through Friday, except Federal holidays.

FOR FURTHER INFORMATION CONTACT: Ms. Judy Leung-Yee, Project Officer, First Coast Guard District, (212) 668-7195.

SUPPLEMENTARY INFORMATION:

Regulatory Information

On October 19, 2006, we published a notice of proposed rulemaking (NPRM) entitled “Drawbridge Operation Regulations”; Thames River, Connecticut, in the Federal Register (71 FR 61698). We received no comments in response to the notice of proposed rulemaking. No public hearing was requested and none was held.

Under 5 U.S.C. 553(d)(3), the Coast Guard finds that good cause exists for making this rule effective less than 30 days after publication in the Federal Register.

Due to the urgency of the repairs, it is essential that this rule becomes effective on November 15, 2006.

The owner of the bridge, National Railroad Passenger Corporation (Amtrak), requested a temporary final rule to facilitate unscheduled structural bridge repairs.

On June 29, 2006, the bridge owner discovered that one of the main bridge piers had shifted as a result of pile driving for the new adjacent Amtrak Bridge. In order to perform corrective repairs, minimize structural impingement, and continue to provide for rail traffic, the bridge must remain in the closed position, except during specific time periods during which the bridge will remain in the full open position for the passage of vessel traffic.

The Coast Guard published a temporary deviation in the Federal Register on July 24, 2006, [71 FR 41730] to allow immediate repairs to the bridge to commence.

On September 6, 2006, Amtrak contacted the Coast Guard and requested a temporary regulation effective from November 15, 20006 through May 15, 2007, to facilitate the completion of the bridge repairs.

The Coast Guard published a notice of proposed rulemaking (71 FR 61698) on October 19, 2006. No comments were received in response to the NPRM.

The Coast Guard believes making this temporary final rule effective in less than 30-days after publication in the Federal Register is reasonable because the bridge repairs facilitated by this temporary rule are vital and necessary repairs that must be performed with all due speed in order to assure the continued safe and reliable operation of the bridge.

Background and Purpose

The Amtrak Bridge, at mile 0.8, across the Thames River has a vertical clearance of 30 feet at mean high water and 33 feet at mean low water in the closed position. The existing operating regulations are listed at 33 CFR 117.224.

The owner of the bridge, National Railroad Passenger Corporation (Amtrak), requested a temporary change to the drawbridge operation regulations to facilitate repairs to one of the main bridge piers.

On June 29, 2006, the bridge owner discovered that one of the main bridge piers had shifted as a result of pile driving for the new adjacent Amtrak Bridge.

In order to perform corrective repairs, minimize structural impingement, and continue to provide for rail traffic, the bridge must remain in the closed position except during specific time periods during which the bridge will remain in the full open position for the passage of vessel traffic.

Under this temporary final rule, from November 15, 2006 through May 15, 2007, the Amtrak Bridge across the Thames River, mile 3.0, at New London, Connecticut, shall remain in the full open position for the passage of vessel traffic as follows:

Monday through Friday: 5 a.m. to 5:40 a.m.; 11:20 a.m. to 11:55 a.m.; 3:35 p.m. to 4:15 p.m.; and 8:30 p.m. to 8:55 p.m.

Saturday: 8:30 a.m. to 9:10 a.m.; 12:35 p.m. to 1:05 p.m.; 3:40 p.m. to 4:10 p.m.; 5:35 p.m. to 6:05 p.m.; and 7:35 p.m. to 8:40 p.m.

Sunday: 8:30 a.m. to 9:20 a.m.; 11:35 a.m. to 12:15 p.m.; 1:30 p.m. to 1:55 p.m.; 6:30 p.m. to 7:10 p.m.; and 8:30 p.m. to 9:15 p.m.

The bridge shall open on signal at any time for the passage of U.S. Navy submarines, Navy escort vessels, and commercial vessels.

At all other times the draw shall remain in the closed position. Vessels that can pass under the draw without a bridge opening may do so at all times.

The Coast Guard believes this temporary final rule is reasonable because the required repair work is vital and necessary in order to ensure the safe and continued reliable operation of the bridge.

Discussion of Comments and Changes

The Coast Guard received no comments in response to the notice of proposed rulemaking and as a result, no changes have been made to this temporary final rule.

Regulatory Evaluation

This rule is not a “significant regulatory action” under section 3(f) of Executive Order 12866, Regulatory Planning and Review, and does not require an assessment of potential costs and benefits under section 6(a)(3), of that Order. The Office of Management and Budget has not reviewed it under that Order.

This conclusion is based on the fact that the vessel traffic that normally transits this bridge should only be minimally affected as they will still be able to transit the bridge under the temporary opening schedule.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations less than 50,000.

The Coast Guard certifies under 5 U.S.C. 605(b), that this rule will not have a significant economic impact on a substantial number of small entities.

This conclusion is based on the fact that the vessel traffic that normally transits this bridge should only be minimally affected as they will still be able to transit the bridge under the temporary opening schedule.

Assistance for Small Entities

Under section 213(a) of the Small Business Regulatory Enforcement Fairness Act of 1996 (Pub. L. 104-121), we offered to assist small entities in understanding the rule so that they could better evaluate its effects on them and participate in the rulemaking process.

No small entities requested Coast Guard assistance and none was given.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environmental documentation considering that it relates to the promulgation of operating regulations or procedures for drawbridges. Under figure 2-1, paragraph (32)(e), of the instruction, an “Environmental Analysis Check List” and a “Categorical Exclusion Determination” are not required for this rule.

List of Subjects in 33 CFR Part 117

Bridges.

For the reasons set out in the preamble, the Coast Guard amends 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. From November 15, 2006 through May 15, 2007, § 117.224 is amended by suspending paragraphs (a) and (b) and adding a temporary paragraph (c), to read as follows:

§ 117.224 Thames River.

* * * * *

(c)(1) The draw shall remain in the full open position for the passage of vessel traffic as follows:

(i) Monday through Friday from 5 a.m. to 5:40 a.m.; 11:20 a.m. to 11:55 a.m.; 3:35 p.m. to 4:15 p.m.; and 8:30 p.m. to 8:55 p.m.

(ii) Saturday from 8:30 a.m. to 9:10 a.m.; 12:35 p.m. to 1:05 p.m.; 3:40 p.m. to 4:10 p.m.; 5:35 p.m. to 6:05 p.m.; and 7:35 p.m. to 8:40 p.m.

(iii) Sunday from 8:30 a.m. to 9:20 a.m.; 11:35 a.m. to 12:15 p.m.; 1:30 p.m. to 1:55 p.m.; 6:30 p.m. to 7:10 p.m.; and 8:30 p.m. to 9:15 p.m.

(2) The draw shall open on signal at all times for the passage of U.S. Navy submarines, Navy escort vessels and commercial vessels. At all other times the draw need not open for the passage of vessel traffic.

Dated: November 12, 2006.
Timothy S. Sullivan,
Rear Admiral, U.S. Coast Guard, Commander, First Coast Guard District.

[FR Doc. 06-9244 Filed 11-14-06; 12:50 pm]

BILLING CODE 4910-15-P